DEPARTMENT OF TRANSPORTATION

Federal Aviation Administration

[Docket No. FAA-2022-1739]

Agency Information Collection Activities: Requests for Comments; Clearance of a Renewed Approval of Information Collection: Airport Grants Program

AGENCY: Federal Aviation Administration (FAA), DOT.

ACTION: Notice and request for comments.

SUMMARY: In accordance with the Paperwork Reduction Act of 1995, FAA invites public comments about our intention to request the Office of Management and Budget (OMB) approval to renew an information collection. The Federal Register Notice with a 60-day comment period soliciting comments on the following collection of information was published on January 5, 2023. The collection involves gathering data from airport sponsors and planning agencies to determine eligibility, ensure compliance with Federal requirements, and ensure proper use of Federal funds and project accomplishments for the Airport Improvement Program and Bipartisan Infrastructure Law (BIL) programs. Submission is required to receive funds.

DATES: Written comments should be submitted by July 5, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Kay Ryder by email at: kay.ryder@faa.gov; phone: 202-267-3831.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information.

OMB Control Number: 2120-0569.

Title: Airport Grants Program.

Form Numbers: FAA Forms 5100-100, 5100-101, 5100-108, 5100-110, 5100-126, 5100-127, 5100-128, 5100-129, 5100-130, 5100-131, 5100-132, 5100-133, 5100-134, 5100-135, 5100-136, 5100-137, 5100-138, 5100-139, 5100-140, 5100-141, 5100-142, 5100-145, 5370-1. Standard Forms 424, 425, 425A, 1445. DOL Form 347.

Type of Review: Renewal of an information collection.

Background: The Federal Register Notice with a 60-day comment period soliciting comments on the following collection of information was published on January 5, 2023 (88 FR 900). Codification of certain U.S. Transportation laws at 49 U.S.C., repealed the Airport and Airway Improvement Act of 1982, as amended, and the Aviation Safety and Noise Abatement Act of 1979, as amended, and re-codified them without substantive change at Title 49 U.S.C., which is referred to as the “Act.” The Act provides funding for airport planning and development projects at airports included in the National Plan of Integrated Airport Systems. The Act also authorizes funds for noise compatibility planning and to carry out noise compatibility programs. The Infrastructure Investment and Jobs Act, referred to as the Bipartisan Infrastructure Law (BIL), provided approximately $20 billion for airport infrastructure, terminal development, including multimodal terminal development and on-airport rail access projects, and airport owned towers. The information required by these programs is necessary to protect the Federal interest in safety, efficiency, and utility of the Airport. Data is collected to meet reporting requirements of 2 CFR part 200 for certifications of domestic preferences and representations, financial management and performance measurement.

Respondents: Approximately 22,362.

Frequency: Information is collected on occasion.

Estimated Average Burden per Response: Approximately 8.2 hours.

Estimated Total Annual Burden: Approximately 182,675 hours.

Issued in Washington, DC, on May 31, 2023.
Kay Ryder,
Manager, AIP Finance Branch Office of Airports, Airports Financial Assistance Division.

[FR Doc. 2023-11964 Filed 6-1-23; 11:15 am]

BILLING CODE 4910-13-P